DEPARTMENT OF LABOR

Employment and Training Administration

[TA-W-51,296]

Federal Mogul Ignition Group, Lighting Division, Hampton, VA; Notice of Termination of Investigation

Pursuant to Section 221 of the Trade Act of 1974, an investigation was initiated on March 25, 2003, in response to a worker petition dated March 19, 2003 filed by a company official on behalf of workers at Federal Mogul Ignition Group, Lighting Division, Hampton, Virginia.

The petitioner has requested that the petition be withdrawn. Consequently, the investigation has been terminated.

Signed in Washington, DC this 9th day of April 2003.
Richard Church,
Certifying Officer, Division of Trade Adjustment Assistance.

[FR Doc. 03-10148 Filed 4-23-03; 8:45 am]

BILLING CODE 4510-30-P